DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project, US 50/Rancho Cordova Parkway, Sacramento County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 15, 2015. If the Federal law that authorizes judicial review of a claim provides a time period of less than 150 days for filing such claim, then that shorter time period still applies.

FOR FURTHER INFORMATION CONTACT: For Caltrans: Kendall Schinke, Environmental Branch Chief, California Department of Transportation, District 3, 2379 Gateway Oaks Drive, Suite 150, Sacramento, CA 95833; Telephone (916) 274-0610 or email Kendall.schinke@dot.ca.gov. Normal business hours are: 8:00 a.m. to 5:00 p.m. Pacific Time.

SUPPLEMENTARY INFORMATION: Effective July 1, 2007, the Federal Highway Administration (FHWA) assigned, and the Caltrans assumed, environmental responsibilities for this project pursuant to 23 U.S.C. 327. Notice is hereby given that the Caltrans has taken final agency actions subject to 23 U.S.C. 139(l)(1) by issuing licenses, permits, and approvals for the following highway project in the State of California: New interchange over U.S. 50 between Sunrise Boulevard and Hazel Avenue in the City of Rancho Cordova. The interchange would be a “south-only” connection and would also include construction of a new four-lane arterial street, called Rancho Cordova Parkway. Rancho Cordova Parkway would extend from the new interchange south to a new signalized intersection with White Rock Road. The actions by the Federal agencies, and the laws under which such actions were taken, are described in the Environmental Assessment (EA) for the project, approved on April 1, 2014, in the FHWA Finding of No Significant Impact (FONSI) issued on April 28, 2015, and in other documents in the FHWA project records. The EA, FONSI and other project records are available by contacting Caltrans at the addresses provided above. The Caltrans EA and FONSI can be viewed and downloaded from the project Web site at http://ranchocordovainterchange.net/ or viewed at City of Rancho Cordova City Hall, Caltrans District 3, Gateway Oaks Office, or public libraries in the project area.

This notice applies to all Federal agency decisions as of the issuance date of this notice and all laws under which such actions were taken, including but not limited to:

1. National Environmental Policy Act (NEPA) [42 U.S.C. 4321-4351]; Federal-Aid Highway Act [23 U.S.C. 109 and 23 U.S.C. 128]

2. Clean Air Act [42 U.S.C. 7401-7671(q)]

3. Clean Water Act [33 U.S.C. 1251 et seq.]

4. Federal Endangered Species Act [16 U.S.C. 1531 et seq.]

5. U.S. Department of Transportation Act [49 U.S.C. 303]

6. Floodplain Management, Executive Order 11988

7. Federal Actions to Address Environmental Justice in Minority Populations and Low Income Populations, Executive Order 12898

(Catalog of Federal Domestic Assistance Program Number 20.205, Highway Planning and Construction. The regulations implementing Executive Order 12372 regarding intergovernmental consultation on Federal programs and activities apply to this program.)

Authority: 23 U.S.C. 139(l)(1)

Gary Sweeten,
North Team Leader, Project Delivery Team, Federal Highway Administration, Sacramento, California.

[FR Doc. 2015-11909 Filed 5-15-15; 8:45 am]

BILLING CODE 4910-RY-P